DEPARTMENT OF COMMERCE

International Trade Administration

[A-405-803, A-421-811]

Purified Carboxymethylcellulose From Finland and the Netherlands: Extension of Time Limit for Preliminary Results of Antidumping Duty Administrative Reviews

AGENCY: Import Administration, International Trade Administration, Department of Commerce.

DATES: Effective Date: March 13, 2012.

FOR FURTHER INFORMATION CONTACT: Robert James or Angelica Mendoza, AD/CVD Operations, Office 7, Import Administration, International Trade Administration, U.S. Department of Commerce, 14th Street and Constitution Avenue NW., Washington, DC 20230; telephone: (202) 482-0649 or (202) 482-3019, respectively.

SUPPLEMENTARY INFORMATION:

Background

On August 26, 2011, the Department of Commerce (the Department) published in the Federal Register the initiation of administrative review of the antidumping duty orders on, inter alia, purified carboxymethylcellulose from Finland and the Netherlands covering the period July 1, 2010, through June 30, 2011. See Initiation of Antidumping and Countervailing Duty Administrative Reviews and Requests for Revocation in Part, 76 FR 53404 (August 26, 2011). The current deadline for the preliminary results of these reviews is April 1, 2012.

Extension of Time Limits for Preliminary Results of Review

Section 751(a)(3)(A) of the Tariff Act of 1930, as amended (the Act), requires that the Department complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department finds it is not practicable to complete the preliminary results of these reviews within the original time frame because the Department requires additional time to gather and analyze the information submitted on the record. Thus, the Department finds it is not practicable to complete these reviews within the original time limit (i.e., April 1, 2012). Accordingly, the Department is extending the time limit for completion of the preliminary results of these administrative reviews by 120 days (i.e., until July 30, 2012), in accordance with section 751(a)(3)(A) of the Act and 19 CFR 351.213(h)(2). We intend to issue the final results no later than 120 days after publication of the preliminary results notice.

This extension is issued and published in accordance with sections 751(a)(3)(A) and 777(i) of the Act.

Dated: March 5, 2012.
Christian Marsh,
Deputy Assistant Secretary for Antidumping and Countervailing Duty Operations.

[FR Doc. 2012-6024 Filed 3-12-12; 8:45 am]

BILLING CODE 3510-DS-P